DEPARTMENT OF COMMERCE

International Trade Administration

[A-485-806]

Certain Hot-Rolled Carbon Steel Flat Products from Romania: Initiation and Preliminary Results of Changed-Circumstances Review

AGENCY: Import Administration, International Trade Administration, Department of Commerce.

SUMMARY: In response to a letter from S.C. Ispat Sidex S.A. notifying the Department of Commerce (the Department) that its corporate name has changed to Mittal Steel Galati S.A., the Department is initiating a changed-circumstances review of the antidumping duty order on certain hot-rolled carbon steel flat products from Romania (see Notice of Amended Final Antidumping Duty Determination and Antidumping Duty Order: Certain Hot-Rolled Carbon Steel Flat Products from Romania, 66 FR 59566 (November 29, 2001) (Amended Determination and Order). We have preliminarily concluded that Mittal Steel Galati S.A. is the successor-in-interest to S.C. Ispat Sidex S.A. (Sidex) and, as a result, should be accorded the same treatment previously accorded to Sidex in regards to the antidumping duty order on certain hot-rolled carbon steel flat products from Romania. Interested parties are invited to comment on these preliminary results.

EFFECTIVE DATE: May 13, 2005.

FOR FURTHER INFORMATION CONTACT: Dunyako Ahmadu at (202) 482-0198 or Dave Dirstine at (202) 482-4033, AD/CVD Operations, Office 5, Import Administration, International Trade Administration, U.S. Department of Commerce, 14th Street and Constitution Avenue, NW, Washington, DC 20230.

SUPPLEMENTARY INFORMATION:

Background

On November 29, 2001, the Department published in the Federal Register an antidumping duty order on certain hot-rolled carbon steel flat products from Romania. See Amended Determination and Order. Since publication, there have been two review periods of this order. Sidex was a participant in both reviews. In a letter dated March 24, 2005, Sidex advised the Department that on February 7, 2005, it changed its corporate name to Mittal Steel Galati, S.A. (Mittal Steel), and that Mittal Steel is the successor-in-interest to Sidex. As such, Sidex requested that the Department initiate a changed-circumstances review to confirm that Mittal Steel is the successor-in-interest to Sidex for purposes of determining antidumping-duty liabilities. Sidex also requested that the Department conduct a changed-circumstances review on an expedited basis, pursuant to 19 CFR 351.221(c)(3)(ii). We did not receive any other comments.

Scope of the Order

For purposes of the order, the products covered include hot-rolled carbon steel flat products. For a complete description of the scope of the order, see Certain Hot-Rolled Carbon Steel Flat Products from Romania: Preliminary Results of Antidumping Duty Administrative Review, 69 FR 70644 (December 7, 2004).

Initiation of Changed-Circumstances Review

Pursuant to section 751(b)(1) of the Tariff Act of 1930, as amended (the Act), and 19 CFR 351.216, the Department will conduct a changed-circumstances review upon receipt of information concerning, or a request from an interested party for a review of, an antidumping duty order which shows changed circumstances sufficient to warrant a review of the order. The information submitted by Mittal Steel claiming that it is the successor-in-interest to Sidex demonstrates changed circumstances sufficient to warrant a review. See 19 CFR 351.216(d).

In accordance with the above-referenced regulation, the Department is initiating a changed-circumstances review to determine whether Mittal Steel is the successor-in-interest to Sidex. In determining whether one company is the successor to another for purposes of applying the antidumping duty law, the Department examines a number of factors including, but not limited to, changes in management, production facilities, supplier relationships, and customer base. See Industrial Phosphoric Acid From Israel: Final Results of Antidumping Duty Changed Circumstances Review, 59 FR 6944 (February 14, 1994). While no single or even several of these factors will necessarily provide a dispositive indication of succession, generally the Department will consider one company to be a successor to another company if its resulting operation is similar to that of its predecessor. See Brass Sheet and Strip from Canada; Notice of Final Results of Antidumping Duty Administrative Review, 57 FR 20460 (May 13, 1992), and the attached Decision Memorandum at Comment 1.¹ Thus, if the evidence demonstrates that, with respect to the production and sale of the subject merchandise, the new company operates as the same business entity as the prior company, the Department will assign the new company the cash-deposit rate of its predecessor.

¹ “{G}enerally, in the case of an asset acquisition, the Department will consider the acquiring company to be a successor to the company covered by the antidumping duty order, and thus subject to its duty deposit rate, if the resulting operation is essentially similar to that existing before the acquisition.”

On March 24, 2005, Mittal Steel submitted information demonstrating that it is the successor to Sidex. With respect to the name change itself, Mittal Steel provided the minutes to its January 10, 2005, “Extraordinary General Meeting of Shareholders” at which the name change was approved. In addition, Mittal Steel provided a copy of the new company registration certificate issued by the Ministry of Justice Trade Register Office of the Galati Tribunal on February 7, 2005, the decision of Galati Tribunal to allow the name change (notarized by a delegated, tribunal judge), and the certificate issued by the National Office of the Trade Registry, Romanian Ministry of Justice, which established that Sidex would adopt the Mittal Steel name and logo. See Request for Initiation of Changed-Circumstances Review, dated March 24, 2005, at Exhibit 1.

According to information provided in Mittal Steel's March 24, 2005, request for a changed-circumstances review, we observed that Mittal Steel's management, production facilities, suppliers, and customer base were consistent with the management, production facilities, suppliers, and customer base of Sidex.

With respect to management prior to and following the name change, the record includes a “Good Standing Certificate” issued by the Trade Registry Office of the Galati Tribunal for Mittal Steel. This document lists the members of the board of directors and their respective tenure. Id. at Exhibit 5. Based on this information, we conclude that the name change did not affect board membership nor the identity of the board members.

Mittal Steel provided excerpts from the 15th edition of Iron and Steel Works of the World published in 2004 which details Sidex's production facilities. It also included a print-out from the Mittal Steel website (dated February 23, 2005) indicating that the production facilities have not changed location nor has the equipment used for the production of merchandise changed following the name change from Sidex to Mittal Steel.

Mittal Steel states in its request for initiation that it is still part of the same corporate group to which Sidex belonged and that the affiliated suppliers in its corporate group are the same affiliated suppliers which Sidex used previously. Similarly, the record shows that the relationships with unaffiliated suppliers have not been altered as a consequence of the name change. In support of this position, Mittal Steel provided reports identifying Mittal Steel's suppliers of raw materials for the production of subject merchandise from September to December 2004 (i.e., before the name change) and from January to February 28, 2005. Id. at Exhibit 9.

Regarding its customer base, Mittal Steel stated that the distribution channels for export and domestic sales, established by Sidex prior to the name change, remain the same after the name change. For example, Mittal Steel stated that the name change had no influence on its relationship with Ispat North America, an affiliated reseller of subject merchandise in the U.S. market. As further evidence that Mittal Steel's customer base remained the same after the name change, Mittal Steel attached a copy of a signed February 15, 2005, customer contract where the company's name is amended in the contract transferring legal rights and obligations of Sidex to Mittal Steel. Id. at Exhibit 10.

Therefore, the information provided in Mittal Steel's March 24, 2005, request for a changed-circumstances review demonstrates that no major changes have occurred with respect to Mittal Steel's management, production facilities, suppliers or customer base.

When it concludes that expedited action is warranted, the Department may publish the notice of initiation and preliminary results for a changed-circumstances review concurrently. See 19 CFR 351.221(c)(3)(ii). See also Canned Pineapple Fruit from Thailand; Initiation and Preliminary Results of Antidumping Duty Changed Circumstances Review, 69 FR 30878 (June 1, 2004). Based on the information on the record, we have determined that expedition of this changed-circumstances review is warranted. In this case, we preliminarily find that Mittal Steel is the successor-in-interest to Sidex and, as such, is entitled to Sidex's cash-deposit rate with respect to entries of subject merchandise.²

² See, e.g., Circular Welded Non-Alloy Steel Pipe From Korea; Final Results of Antidumping Duty Changed Circumstances Review, 63 FR 20572 (April 27, 1998), where the Department found successorship where the company only changed its name and did not change its operations.

Should our final results remain the same as these preliminary results, we will instruct U.S. Customs and Border Protection to assign Mittal Steel the antidumping duty cash-deposit rate applicable to Sidex.

Public Comment

Any interested party may request a hearing within 14 days of publication of this notice. See 19 CFR 351.310(c). Any hearing, if requested, will be held 28 days after the date of publication of this notice or the first working day thereafter. Interested parties may submit case briefs and/or written comments not later than 14 days after the date of publication of this notice. Rebuttal briefs and rebuttals to written comments, which must be limited to issues raised in such briefs or comments, may be filed not later than 21 days after the date of publication of this notice. Parties who submit case briefs or rebuttal briefs in this changed-circumstances review are requested to submit with each argument (1) a statement of the issue and (2) a brief summary of the argument with an electronic version included. Consistent with 19 CFR 351.216(e), we will issue the final results of this changed-circumstances review no later than 270 days after the date on which this review was initiated or within 45 days of publication of these preliminary results if all parties agree to our preliminary finding.

We are issuing and publishing this initiation and preliminary results notice in accordance with sections 751(b)(1) and 777(i)(1) of the Act and 19 CFR 351.216 and 351.221(c)(3).

Dated: May 9, 2005.
Joseph A. Spetrini,
Acting Assistant Secretary for Import Administration.

[FR Doc. E5-2392 Filed 5-12-05; 8:45 am]

(BILLING CODE: 3510-DS-S)